DEPARTMENT OF THE INTERIOR

UTAH RECLAMATION MITIGATION AND CONSERVATION COMMISSION

Central Utah Project Completion Act

AGENCIES: Department of the Interior. Office of the Assistant Secretary—Water and Science (Interior); and the Utah Reclamation Mitigation and Conservation Commission (Mitigation Commission).

ACTION: Notice of Availability, Final Environmental Impact Statement (FEIS), Lower Duchesne River Wetlands Mitigation Project (LDWP), Duchesne and Uintah Counties, Utah.

SUMMARY: Pursuant to section 102(2)(c) of the National Environmental Policy Act of 1969 (NEPA), as amended, Interior and the Mitigation Commission (Joint Lead Agencies), have issued a Final Environmental Impact Statement (FEIS) for the Lower Duchesne River Wetlands Mitigation Project in Duchesne and Uintah Counties, Utah. The FEIS addresses potential impacts related to construction and operation of features proposed for the project and incorporates responses to public comments received on the Draft EIS.

The FEIS is intended to satisfy disclosure requirements of NEPA and will serve as the NEPA compliance document for contracts, agreements and permits that would be required for construction and operation of the project.

FOR FURTHER INFORMATION CONTACT: Additional information on matters related to this notice can be obtained from Mr. Ralph G. Swanson at (801) 379-1254, or rswanson@uc.usbr.gov. Copies of the FEIS, and supporting resource technical reports, are available upon request.

Copies of the FEIS are also available for inspection at:

Utah Reclamation Mitigation and Conservation Commission, 230 South 500 East, Suite 230, Salt Lake City, Utah 84102;

Department of the Interior, Natural Resource Library, Serials Branch, 18th and C Streets, NW., Washington, DC 20240;

Headquarters, Ute Indian Tribe of the Uintah and Ouray Agency, 988 South 7500 East, Ft. Duchesne, Utah 84026;

Bureau of Indian Affairs, P.O. Box 130, Ft. Duchesne, Utah 84026;

Duchesne County Library, 70 East Lagoon, Roosevelt, Utah 84066;

and on the Mitigation Commission Web site at: www.mitigationcommission.com.

SUPPLEMENTARY INFORMATION: Background—The LDWP is proposed to fulfill certain environmental mitigation commitments of the Bonneville Unit of the Central Utah Project. The Strawberry Aqueduct and Collection System (SACS) is a key component of the Bonneville Unit, collecting water from the Upper Duchesne River and its tributaries and storing it in Strawberry Reservoir for delivery westward to the Wasatch Front in Utah. As a result, wetlands and wildlife habitats along the Duchesne River have been adversely impacted. Substantial wetland impacts occurred on the Uintah and Ouray Reservation lands of the Ute Indian Tribe. The Proposed Action would create, restore, and otherwise enhance riparian wetland habitats on reservation lands of the Ute Indian Tribe along the Duchesne River in Utah as partial mitigation for these Bonneville Unit impacts. The LDWP has been planned in conjunction with the Ute Indian Tribe and is intended to fulfill a long-standing commitment to mitigate for impacts to Ute Indian tribal wetland-wildlife resources and to provide additional wetland/wildlife benefits to the Ute Indian Tribe.

Notice of Intent to initiate public scoping and prepare a Draft EIS was published in the Federal Register on April 25, 2001 (66 FR 20827). Scoping was accomplished by means of three public meetings convened in Ft. Duchesne, Roosevelt and Salt Lake City, Utah in May 2003. The DEIS was filed with the EPA by the Joint Lead Agencies on November 17, 2003. Notice of Availability of the DEIS was announced in the Federal Register on November 24, 2003 (68 FR 65943). Three public meetings were held in Ft. Duchesne, Roosevelt and Salt Lake City, Utah in December 2003, to receive public comment on the DEIS. Comments received during the public comment period from November 17, 2003 to February 17, 2004, were considered during preparation of the FEIS.

Publication of a Record of Decision for the LDWP will occur no sooner than 30 days from the date of this notice.

Proposed Action—Approximately 4,807 acres of land composed of 3,215 acres of Ute Indian Tribal trust lands, and 1,592 acres of fee lands to be acquired by the Federal Government, would be acquired and/or developed into cohesive wetlands management units. A portion of the water currently managed by the Bureau of Indian Affairs for the Ute Indian Tribe under the existing Uinta Indian Irrigation Project would be utilized, along with water that may be acquired with fee land acquisitions, to create, restore and enhance wetlands throughout the project area. Lands acquired in fee title (except lands acquired by eminent domain) would be transferred to the Ute Indian Tribe. All project lands (dedicated tribal and acquired lands) would be managed for project purposes by the Ute Indian Tribe under management agreements with the Joint Lead Agencies to achieve the prescribed wetlands-associated fish and wildlife benefits, and for other wetland/wildlife-related tribal benefits.

Alternatives—Two action alternatives were developed and evaluated. The alternatives included in the FEIS are similar to the Proposed Action, differing only in the acreage amounts and locations.

No Action—No lands or waters would be acquired or managed for wetland habitat improvements or tribal benefits. This Central Utah Project, Bonneville Unit mitigation commitment to the Ute Indian Tribe would remain unfulfilled. The Commission would undertake additional planning to develop an acceptable alternative means to complete this mitigation commitment.

Reed R. Murray,
Program Director, Department of the Interior.
Michael C. Weland,
Executive Director, Utah Reclamation Mitigation and Conservation Commission.

[FR Doc. E8-7810 Filed 4-10-08; 8:45 am]

BILLING CODE 4310-RK-P